DEPARTMENT OF DEFENSE

GENERAL SERVICES ADMINISTRATION

NATIONAL AERONAUTICS AND SPACE ADMINISTRATION

[OMB Control No. 9000-0032; Docket No. 2019-0003; Sequence No. 30]

Information Collection; Contractor Use of Interagency Fleet Management System Vehicles

AGENCY: Department of Defense (DOD), General Services Administration (GSA), and National Aeronautics and Space Administration (NASA).

ACTION: Notice and request for comments.

SUMMARY: In accordance with section 3506(c)(2)(A) of the Paperwork Reduction Act of 1995, and the Office of Management and Budget (OMB) regulations, DoD, GSA, and NASA invite the public to comment on a revision and renewal concerning contractor use of Interagency Fleet Management System Vehicles. DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through January 31, 2020. DoD, GSA, and NASA propose that OMB extend its approval for use for three additional years beyond the current expiration date.

DATES: DoD, GSA, and NASA will consider all comments received by December 9, 2019.

ADDRESSES: DoD, GSA, and NASA invite interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0032, Contractor Use of Interagency Fleet Management System Vehicles.

Instructions: All items submitted must cite Information Collection 9000-0032, Contractor Use of Interagency Fleet Management System Vehicles. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Mr. Michael O. Jackson, Procurement Analyst, at telephone 202-208-4949, or email at michaelo.jackson@gsa.gov.

SUPPLEMENTARY INFORMATION:

A. OMB Control number, Title, and Any Associated Form(s)

9000-0032, Contractor Use of Interagency Fleet Management System Vehicles.

B. Needs and Uses

Federal Acquisition Regulation (FAR) 51.203 and the clause at FAR 52.251-2, Interagency Fleet Management System (IFMS) Vehicles and Related Services, are to be used in solicitations and contracts when a cost-reimbursement contract is contemplated and the contracting officer may authorize, if in the best interest of the Government, the contractor to use IFMS vehicles and related services. Before such an authorization, the contracting officer must have, among other requirements: (1) A written statement that the contractor will assume, without the right of reimbursement from the Government, the cost or expense of any use of the IFMS vehicles and services not related to the performance of the contract; (2) Evidence that the contractor has obtained motor vehicle liability insurance covering bodily injury and property damage, with limits of liability as required or approved by the agency, protecting the contractor and the Government against third-party claims arising from the ownership, maintenance, or use of an IFMS vehicle; and (3) Considered any recommendations of the contractor.

Authorized contractors shall submit requests for IFMS vehicles and related services in writing to the appropriate GSA point of contact in accordance with the FAR. Contractors' requests must include: (1) Two copies of the agency authorization; (2) The number of vehicles and related services required and period of use; (3) A list of employees who are authorized to request the vehicles or related services; (4) A listing of equipment authorized to be serviced; and (5) Billing instructions and address.

C. Annual Burden

Respondents: 132.

Total Annual Responses: 132.

Total Burden Hours: 132.

Obtaining Copies: Requesters may obtain a copy of the information collection documents from the General Services Administration, Regulatory Secretariat Division (MVCB), 1800 F Street NW, Washington, DC 20405, telephone 202-501-4755. Please cite OMB Control No. 9000-0032, Contractor Use of Interagency Fleet Management System Vehicles, in all correspondence.

Dated: October 2, 2019.
Janet Fry,
Director, Federal Acquisition Policy Division, Office of Governmentwide Acquisition Policy, Office of Acquisition Policy, Office of Governmentwide Policy.

[FR Doc. 2019-21886 Filed 10-7-19; 8:45 am]

BILLING CODE 6820-EP-P